DEPARTMENT OF COMMERCE

National Oceanic and Atmospheric Administration

[I.D. 032106E]

Caribbean Fishery Management Council; Public Meetings

AGENCY: National Marine Fisheries Service (NMFS), National Oceanic and Atmospheric Administration (NOAA), Commerce.

ACTION: Notice of public meetings.

SUMMARY: The Caribbean Fishery Management Council's Advisory Panel (AP), Scientific and Statistical Committee (SSC) and Habitat Advisory Panel (HAP), will hold meetings.

DATES: The SSC, HAP and AP meetings will be held on April 25, 2006, from 10 a.m. to 4 p.m.

ADDRESSES: All meetings will be held at the Ponce Hilton Hotel, 1150 Caribe Avenue, Ponce, Puerto Rico.

FOR FURTHER INFORMATION CONTACT: Caribbean Fishery Management Council, 268 Munoz Rivera Avenue, Suite 1108, San Juan, Puerto Rico 00918-2577; telephone: (787) 766-5926.

SUPPLEMENTARY INFORMATION: The AP, SSC and HAP will meet to discuss the items contained in the following agendas:

SSC/HAP Meeting

-Call to order

-Models for Ecosystem Based Management Approach - Monica Valle

-Jurisdiction Separation for Assessment Purposes in the Caribbean

-Limited Entry - Scientific Issues in the U.S. Caribbean

-Other Business

AP Meeting

-Call to Order

-Revised SFA, PR, USVI Regulations

-Issues with closed areas/season

-Limited Entry Update

-Other Business

The meetings are open to the public, and will be conducted in English. However, simultaneous interpretation (Spanish-English) will be available during the AP meeting. Fishers and other interested persons are invited to attend and participate with oral or written statements regarding agenda issues.

Although non-emergency issues not contained in this agenda may come before these groups for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. For more information or request for sign language interpretation and/other auxiliary aids, please contact Mr. Miguel A. Rolon, Executive Director, Caribbean Fishery Management Council, 268 Munoz Rivera Avenue, Suite 1108, San Juan, Puerto Rico 00918-2577; telephone: (787) 766-5926, at least 5 days prior to the meeting date.

Dated: April 3, 2006.
Tracey L. Thompson,
Acting Director, Office of Sustainable Fisheries, National Marine Fisheries Service.

[FR Doc. E6-4979 Filed 4-5-06; 8:45 am]

BILLING CODE 3510-22-S